DEPARTMENT OF VETERANS AFFAIRS

[OMB Control No. 2900-New]

Agency Information Collection (NCA PreNeed Burial Planning) Activity Under OMB Review

AGENCY: National Cemetery Administration, Department of Veterans Affairs.

ACTION: Notice.

SUMMARY: In compliance with the Paperwork Reduction Act (PRA) of 1995 (44 U.S.C. 3501-3521), this notice announces that the National Cemetery Administration (NCA), Department of Veterans Affairs, will submit the collection of information abstracted below to the Office of Management and Budget (OMB) for review and comment. The PRA submission describes the nature of the information collection and its expected cost and burden and includes the actual data collection instrument.

DATES: Comments must be submitted on or before July 2, 2012.

ADDRESSES: Submit written comments on the collection of information through www.Regulations.gov; or to VA's OMB Desk Officer, OMB Human Resources and Housing Branch, New Executive Office Building, Room 10235, Washington, DC 20503 (202) 395-7316. Please refer to “OMB Control No. 2900—New” in any correspondence.

FOR FURTHER INFORMATION CONTACT: Denise McLamb, Enterprise Records Service (005R1B), Department of Veterans Affairs, 810 Vermont Avenue NW., Washington, DC 20420, (202) 632-7479, fax (202) 632-7583 or email denise.mclamb@va.gov. Please refer to “OMB Control No. 2900—New” In any correspondence.

SUPPLEMENTAL INFORMATION:

Title: NCA PreNeed Burial Planning, VA Form 40-10007.

OMB Control Number: 2900—New.

Type of Review: New collection.

Abstract: VA Form 40-10007 will be used to collect information to assist Veterans, service members, and their eligible family members with planning for burial in a VA national cemetery. This information will be reviewed by VA for completeness and will remain on file for an eligibility determination at the time of need.

An agency may not conduct or sponsor, and a person is not required to respond to a collection of information unless it displays a currently valid OMB control number. The Federal Register Notice with a 60-day comment period soliciting comments on this collection of information was published on June 1, 2011, at page 31683. One comment was received. The commenter stated that the scope of the pre-need burial program should be extended to all Veterans and service members, and not limited to those with terminal illnesses. VA agrees and has revised the form to include all Veterans, service members, and their potentially eligible family members.

Affected Public: Individuals or households.

Estimated Annual Burden: 2,000.

Estimated Average Burden per Respondent: 15 minutes.

Frequency of Response: One-time.

Estimated Number of Respondents: 8,000.

Dated: June 6, 2012.
By direction of the Secretary.
Denise McLamb,
Program Analyst, Enterprise Records Service.

[FR Doc. 2012-14131 Filed 6-11-12; 8:45 am]

BILLING CODE 8320-01-P